DEPARTMENT OF HEALTH AND HUMAN SERVICES

Office of the Secretary

[Document Identifier: HHS-OS-0990-0382-60D]

Agency Information Collection Activities; Proposed Collection; Public Comment Request

AGENCY: Office of the Assistant Secretary for Health, Office of Adolescent Health, HHS.

ACTION: Notice.

SUMMARY: In compliance with section 3506(c)(2)(A) of the Paperwork Reduction Act of 1995, the Office of the Secretary (OS), Department of Health and Human Services, announces plans to request an extension without change of a currently approved Information Collection Request (ICR) to the Office of Management and Budget (OMB). Prior to submitting that request to OMB, OS seeks comments from the public regarding the burden estimate, below, or any other aspect of the ICR.

DATES: Comments on the ICR must be received on or before April 6, 2015.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-0990-0382-Extension-60D for reference.

Information Collection Request Title: Evaluation of Pregnancy Prevention Approaches—First Follow-up

Abstract: The Office of Adolescent Health (OAH), U.S. Department of Health and Human Services (HHS) is requesting an extension without change of a currently approved information collection request by OMB. The purpose of the extension is to complete the ongoing follow-up data collection for the Evaluation of Adolescent Pregnancy Prevention Approaches (PPA), a multi-site random assignment evaluation of promising approaches to teen pregnancy prevention.

Need and Proposed Use of the Information: The PPA study is being conducted in seven program sites around the country. The proposed extension is necessary to complete ongoing follow-up data collection in five of the seven study sites. The resulting data will be used in a rigorous program impact analysis to assess the effectiveness of each program in reducing rates of teen pregnancy and associated sexual risk behaviors.

Likely Respondents: The 1484 youth participants who agreed to participate in the study upon sample enrollment in 5 impact study sites.

The total annual burden hours estimated for this ICR are summarized in the table below.

Total Estimated Annualized Burden—Hours
Form name | Number of respondents | Number of responses per respondent | Average burden per response (in hours) | Total burden hours
Oklahoma Institute for Child Advocacy (OICA) | 294 | 2 | 42/60 | 412
Ohio Health | 148 | 3 | 42/60 | 310
Children's Hospital Los Angeles | 254 | 2 | 36/60 | 305
EngenderHealth | 240 | 2 | 36/60 | 288
Princeton Center for Leadership Training | 548 | 2 | 36/60 | 658
Total |  |  |  | 1,973

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Darius Taylor,
Information Collection Clearance Officer.

[FR Doc. 2015-02144 Filed 2-3-15; 8:45 am]

BILLING CODE 4168-11-P